DEPARTMENT OF TRANSPORTATION

Federal Transit Administration

Intent To Prepare an Environmental Impact Statement on the Bottineau Transitway Project From Minneapolis to Maple Grove in Hennepin County, MN

AGENCY: Federal Transit Administration (FTA), Department of Transportation (DOT).

ACTION: Notice of intent to prepare an environmental impact statement (EIS).

SUMMARY: The FTA, as the lead federal agency, the Hennepin County Regional Railroad Authority (HCRRA), and the Metropolitan Council intend to prepare an EIS for the proposed Bottineau Transitway project located along the Bottineau Transitway Corridor in Hennepin County, Minnesota. The proposed transitway, approximately 13 miles long, would connect downtown Minneapolis with North Minneapolis and the northwest suburbs of the Twin Cities. The transitway would originate in Minneapolis near the existing Target Field Station, where several existing transit lines converge, and would extend to the following suburbs: Robbinsdale, Golden Valley, Crystal, New Hope, Brooklyn Park, Maple Grove, and Osseo. The EIS will be prepared in accordance with Section 102(2)C of the National Environmental Policy Act of 1969 (NEPA) and pursuant to the Council on Environmental Quality's regulations (40 Code of Federal Regulations [CFR] parts 1500-08), as well as provisions of the Safe, Accountable, Flexible, Efficient Transportation Equity Act: A Legacy for Users (SAFETEA-LU). The purpose of this notice is to alert interested parties of the intent to prepare the EIS; provide information on the proposed transit project; invite public participation in the EIS process, including comments on the scope of the EIS proposed in this notice; and serve as an announcement of public and agency scoping meetings.

DATES: Written comments on the scope of the EIS should be sent to Brent Rusco, Bottineau Transitway Project Manager, on or before February 17, 2012. See ADDRESSES below for the locations to which written comments may be submitted. Public scoping meetings will be held on the following dates, in order to solicit input on the scope of the EIS:

• January 23, 2012, from 4:30 to 6:30 p.m., at the Theodore Wirth Chalet, 1301 Theodore Wirth Parkway, Minneapolis, Minnesota.

• January 24, 2012, from 6 to 8 p.m., at Brooklyn Park City Hall, 5200 85th Avenue North, Brooklyn Park, Minnesota.

• January 25, 2012, from 5:30 to 7:30 p.m., at the Urban Research and Outreach/Engagement Center (UROC), 2001 Plymouth Avenue North, Minneapolis, Minnesota.

• January 31, 2012, from 6 to 8 p.m., at the Robbinsdale City Hall, 4100 Lakeview Avenue North, Robbinsdale, Minnesota.

An interagency scoping meeting for agencies with interest in the project will be held on the following date:

• January 19, 2012, from 9 to 11 a.m., at the Kimley-Horn and Associates office, 2550 University Avenue West, Suite 238N, St. Paul, Minnesota.

All the scoping meetings will be accessible to persons with disabilities. If special translation or signing services or other special accommodations are needed, please contact Brent Rusco (see ADDRESSES below) at least 48 hours prior to the meeting. Project information outlining the project purpose and need, as well as alternatives proposed for analysis, will be available in the form of a scoping information packet, at the meetings and on the project Web site: http://bottineautransitway.org. Paper copies of the information may also be obtained from Brent Rusco [see ADDRESSES below].

ADDRESSES: Comments on the scope of the EIS will be accepted at the scoping meetings, or written comments should be sent to Brent Rusco, Bottineau Transitway Project Manager, Hennepin County, 701 Fourth Avenue South, Suite 400, Minneapolis, MN 55415, Phone: (612) 543-0579, Email: Brent.rusco@co.hennepin.mn.us, Fax: (612) 348-9710.

FOR FURTHER INFORMATION CONTACT: Lois Kimmelman, Environmental Protection Specialist, FTA Region V, Chicago, Illinois, (312) 353-4060; or Bill Wheeler, Community Planner, FTA Region V, Chicago, Illinois, (312) 353-2639.

SUPPLEMENTARY INFORMATION:

Scoping

The FTA, HCRRA, and the Metropolitan Council invite all interested individuals and organizations, public agencies, and Native American Tribes to comment on the scope of the EIS for the proposed Bottineau Transitway, including the project's purpose and need, the alternatives to be studied, the environmental impacts to be evaluated, and the evaluation methods to be used. Comments should address: (1) Feasible alternatives that may better achieve the project's purpose and need with fewer adverse impacts, and (2) any significant impacts relating to the alternatives.

“Scoping,” as described in the regulations implementing NEPA (Title 40 of CFR 1501.7) has specific and fairly limited objectives, one of which is to identify the significant issues associated with alternatives that will be examined in detail in the document, while simultaneously limiting consideration and development of issues that are not truly significant. It is during the NEPA scoping process that potentially significant environmental impacts—those that give rise to the need to prepare an EIS—should be identified. Impacts that are deemed not to be significant need not be developed extensively in the context of the EIS, thereby keeping the EIS focused on impacts of consequence consistent with the ultimate objectives of the NEPA implementing regulations: “to make the environmental impact statement process more useful to decision makers and the public; and to reduce paperwork and the accumulation of extraneous background data, in order to emphasize the need to focus on real environmental issues and alternatives * * * [by requiring] impact statements to be concise, clear, and to the point, and supported by evidence that agencies have made the necessary environmental analyses.” (Executive Order 11991 of May 24, 1977.)

Once the scope of the EIS is defined, and significant environmental issues to be addressed have been identified, an annotated outline of the EIS will be prepared that: (1) Documents the results of the scoping process, (2) contributes to the transparency of the process, and (3) provides a clear roadmap for concise development of the EIS.

Purpose and Need for the Project

The purpose of the Bottineau Transitway is to provide transit service which will satisfy the long-term regional mobility and local accessibility needs for businesses and the traveling public. Residents and businesses in the Bottineau Transitway project area need access to the region's activity centers to fully participate in the region's economy. Access to jobs in Minneapolis, St. Paul, the University of Minnesota, and the growing Minneapolis suburbs is crucial. Traffic congestion is expected to intensify in the Twin Cities Metropolitan Area through 2030 and beyond, and it cannot be addressed by highway construction alone. Current transit service in the Bottineau Transitway offers a limited number of viable alternatives to personal vehicles. Without major transit investments, it will be difficult to effectively meet the transportation needs of people and businesses in the corridor, manage highway traffic congestion in the project area, and achieve the region's 2030 Transportation Policy Plan (TPP) goal of doubling transit ridership by 2030.

Five factors contribute to the need for the Bottineau Transitway project:

• Growing travel demand resulting from continuing growth in population and employment.

• Increasing traffic congestion and limited funding.

• Growing numbers of people who depend on transit.

• Limited transit service to suburban jobs (reverse commute opportunities) and travel-time competitive transit options.

• Regional objectives for growth.

Project Location of Environmental Setting

The project is located in Hennepin County, Minnesota, and includes downtown Minneapolis, Minnesota, and its northwest suburbs, including Robbinsdale, Golden Valley, Crystal, New Hope, Brooklyn Park, Maple Grove, and Osseo.

Possible Alternatives

The Bottineau Transitway Alternatives Analysis (AA) Study was completed by HCRRA in March 2010. The AA Study evaluated a no-build alternative and a broad range of build alternatives, including an enhanced bus/transportation system management alternative, as well as commuter rail, light rail transit (LRT), and bus rapid transit (BRT) alternatives. The study progressively narrowed down the build alternatives to a set of 21 alternatives which underwent detailed evaluation. The AA Study is posted on the project Web site.

The following alternatives are currently under consideration for further study in the EIS:

No-Build Alternative. The No-Build alternative serves as the baseline against which environmental effects of the Bottineau Transitway build alternatives are measured. It is defined as the existing transportation system in the Bottineau Transitway Corridor, plus any committed transportation improvements in the region, i.e., those roadway, transit facility, and service improvements that are planned, programmed, and included in the TPP, and that are to be implemented by the year 2030. The No-Build Alternative does not include the Bottineau Transitway project. It does include major regional transit projects such as the Green Line (Central Corridor LRT and Southwest Transitway LRT), Red Line (Cedar Avenue BRT), and the Orange Line (I-35W BRT), as well as minor transit service expansions and/or adjustments in order to continue existing Metropolitan Council service policies.

Enhanced Bus/Transportation Systems Management (TSM) Alternative. The TSM alternative is defined as enhancements and upgrades to the existing transportation system in the Bottineau Transitway Corridor, such that the project's purpose and need would be met as much as possible without a major capital investment. The TSM alternative could include bus route restructuring, scheduling improvements, new express and limited-stop services, intersection improvements, and other focused infrastructure improvements that would heighten the functioning of the current transit system. The specific combination of improvements to be incorporated into this alternative will be developed during EIS process.

Light Rail Transit (LRT) Alternatives. All LRT alternatives would include several station stops between downtown Minneapolis and the Maple Grove/Brooklyn Park area. These alternatives, which would follow West Broadway, the Burlington Northern Santa Fe (BNSF) rail corridor, and Olson Memorial Highway and/or Penn Avenue, would include tracks, stations and support facilities, as well as transit service for LRT and connecting bus routes.

Bus Rapid Transit (BRT) Alternative. The BRT alternative would include a busway in its own dedicated space (guideway) with several stations between downtown Minneapolis and the Brooklyn Park area. This alternative, which would follow West Broadway, the BNSF rail corridor, and Olson Memorial Highway, would include all facilities associated with the construction and operation of BRT, including right-of-way, travel lanes, stations, and support facilities, as well as transit service for BRT and connecting bus routes.

Possible Effects

The purpose of the EIS process is to study, in a public setting, the potentially significant effects of the proposed project on the quality of the human environment. Primary areas of investigation for this project include, but are not limited to: Land use and economic development; land acquisition, displacements, and relocation; neighborhood cohesion and environmental justice; historic resources; parklands; visual and aesthetic qualities; air quality; water quality, wetlands, and floodplains; wildlife/endangered species and ecosystems; noise; vibration; hazardous materials affected by demolition and construction activities; traffic circulation and transportation linkages; parking; pedestrian and bicycle connections; energy use; and safety and security. Effects will be evaluated in the context of both short-term construction and long-term operation of the proposed project. Direct project effects as well as indirect and cumulative effects on the environment will be addressed. The environmental analysis may reveal that the proposed project will not affect, or affect substantially, many of the primary areas of investigation. However, if any adverse impacts are identified, measures to avoid, minimize, or mitigate those adverse effects will be proposed.

Procedures for Public and Agency Involvement

The regulations implementing NEPA, as well as provisions of SAFETEA-LU, call for public involvement in the EIS process. Section 6002 of SAFETEA-LU (23 U.S.C. 139) requires that FTA, HCRRA, and the Metropolitan Council do the following: (1) Extend an invitation to other federal and non-federal agencies and Native American tribes that may have an interest in the proposed project to become “participating agencies;” (2) provide an opportunity for involvement by participating agencies and the public to help define the purpose and need for proposed project, as well as the range of alternatives for consideration in the EIS; and (3) establish a plan for coordinating public and agency participation in, and comment on) the environmental review process. An invitation to become a participating or cooperating agency, with scoping materials appended, will be extended to other federal and non-federal agencies and Native American tribes that may have an interest in the proposed project. It is possible that FTA, HCRRA, and the Metropolitan Council will not be able to identify all federal and non-federal agencies and Native American tribes that may have such an interest. Any federal or non-federal agency or Native American tribes interested in the proposed project that does not receive an invitation to become a participating agency should notify at the earliest opportunity the Project Manager identified above under ADDRESSES.

A comprehensive public involvement program for public and agency involvement will be developed for the project and posted on the project Web site. The public involvement program includes a full range of activities including maintaining the project Web site, and outreach to local officials, community and civic groups, and the general public.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received before the document is printed, at the latest, FTA and its grantees will distribute only the executive summary of environmental documents in printed form together with a compact disc (CD) that contains the complete environmental document. A complete printed set of the environmental documents will be available for review at the grantee's offices and elsewhere; an electronic copy of the complete environmental document will also be available on the grantee's Web site.

Other

The EIS will be prepared in accordance with NEPA and its implementing regulations issued by the Council on Environmental Quality (40 CFR parts 1500-1508), and with the FTA/Federal Highway Administration regulations “Environmental Impact and Related Procedures” (23 CFR part 771).

Issued on: January 5, 2012.
Marisol Simon,
Regional Administrator, FTA, Region V.

[FR Doc. 2012-264 Filed 1-9-12; 8:45 am]

BILLING CODE P